SOCIAL SECURITY ADMINISTRATION

[Docket No. SSA-2023-0039]

Request for Information: Social Security Administration's Plan for Increasing Public Access to the Results of Federally Funded Scientific Research

AGENCY: Social Security Administration.

ACTION: Request for information.

SUMMARY: The Social Security Administration (SSA) requests public comment about how to implement our Plan for Increasing Public Access to the Results of Federally Funded Scientific Research (public access plan). Our public access plan provides general guidelines supporting public access to our scientific research publications and scientific research data. We are seeking public input to inform our development of specific policies and guidelines that will apply to all new research grants, cooperative agreements, contracts, and other awards made on or after December 31, 2025. The policies and guidelines will also apply to all scientific research by our employees published on or after December 31, 2025.

DATES: To ensure that your comments are considered, we must receive them no later than June 12, 2024.

ADDRESSES: You may submit comments by any one of three methods—internet, fax, or mail. Do not submit the same comments multiple times or by more than one method. Regardless of which method you choose, please state that your comments refer to Docket No. SSA-2023-0039 so that we may associate your comments with the correct docket.

Caution: You should be careful to include in your comments only information that you wish to make publicly available. Do not include in your comments any personal information, such as Social Security numbers or medical information.

1. Internet: We strongly recommend that you submit your comments via the internet. Please visit the Federal eRulemaking portal at www.regulations.gov. Use the “Search” function to find docket number SSA-2023-0039. The system will issue a tracking number to confirm your submission. You will not be able to view your comment immediately because we must post each comment manually. It may take up to a week for your comment to be viewable.

2. Fax: Fax comments to 1 (833) 410-1631.

3. Mail: Mail your comments to the Office of Legislation and Congressional Affairs, Regulations and Reports Clearance Staff, Social Security Administration, Mail Stop 3253 Altmeyer, 6401 Security Boulevard, Baltimore, Maryland 21235-6401.

Comments are available for public viewing on the Federal eRulemaking portal at http://www.regulations.gov or in person, during regular business hours, by arranging with the contact person identified below.

FOR FURTHER INFORMATION CONTACT: Ted Horan, Office of Research, Evaluation and Statistics, Social Security Administration (SSA), 6401 Security Boulevard, Baltimore, Maryland 21235-6401, (410) 966-2788.

For information on eligibility or filing for benefits, call our national toll-free number, 1-800-325-0778, or visit our internet site, Social Security Online, at www.ssa.gov.

SUPPLEMENTARY INFORMATION:

I. Background

Under the Social Security Act, we administer Old-Age and Survivors Insurance (OASI), which provides retirement and survivors benefits to qualified workers and their family members. Under Disability Insurance (DI), we provide benefits for workers who become disabled and their families, and provide financial support to aged, blind, and disabled adults and children who have limited income and resources under Supplemental Security Income (SSI). Our research budget funds scientific research, such as data development and dissemination, modeling efforts, administrative research, and retirement and disability policy research to better serve the public. We fund a range of extramural projects to better serve the public, including: disability and retirement policy research, demonstration projects to test ways to promote greater labor force participation among people with disabilities, evaluations of proposed or newly enacted legislative changes, and projects to maintain and improve basic data about our programs and beneficiaries. In addition to funding extramural projects, we employ statisticians, economists, and other research staff who conduct intramural research projects that are published in scholarly outlets such as scientific and professional journals.

In 2013, the White House Office of Science and Technology Policy (OSTP) issued a memorandum ¹ requiring certain agencies to develop plans that support increased public access to federally funded research results; and in 2022, OSTP issued a second memorandum ² expanding the requirement to other agencies including SSA. In compliance with the memoranda, we published our public access plan available at https://www.science.gov/Public-Access-Plans-Guidance.html and at www.ssa.gov/open.

¹ See 2013 Memo, https://obamawhitehouse.archives.gov/sites/default/files/microsites/ostp/ostp_public_access_memo_2013.pdf.

² See 2022 Memo, https://www.whitehouse.gov/wp-content/uploads/2022/08/08-2022-OSTP-Public-Access-Memo.pdf.

II. Request for Information

Through this Request for Information, we are asking interested persons and groups, including stakeholders across public and private sectors who may be familiar with or interested in the research work of our agency, for comments about how to implement our public access plan as we develop specific policies, requirements, and guidance for research we fund.

This Request for Information is for information and planning purposes only and should not be construed as a solicitation or as an obligation on our part. We will not respond to the comments we receive in response to this Request for Information, but we will use the comments to inform our development of specific public access policies and requirements for future research.

Public access to scientific research is subject to compliance with applicable Federal laws, regulations, and directives, including those intended to prevent disclosure of personally identifiable information and other restricted data.

Our public access plan summarizes our current extramural and intramural research; however, we are not requesting comments about our current research projects, ideas for future research, or unsolicited requests to conduct research or receive awards for research. For more information about opportunities to conduct research for the Social Security Administration, go to: www.ssa.gov/policy/about/research-funding.html or https://www.ssa.gov/disabilityresearch/funding.htm.

III. Discussion of Questions

We welcome comments about how we should implement our Plan for Increasing Public Access to the Results of Federally Funded Scientific Research at www.regulations.gov, by searching for this docket (SSA-2023-0039). Our public access plan explains how we will provide the public with free access to our scientific research publications and publicly releasable scientific research data. Our public access plan summarizes our research programs, what research will be publicly accessible, proposed requirements, and actions we are taking to implement the plan. We appreciate public comments on the following questions.

1. Scope and Applicability—Our public access plan defines the scope of what research will be publicly accessible, including limitations to protect privacy of personally identifiable information. As we implement our public access plan, is there additional public access we should consider?

2. Digital Repositories—We will require that federally funded scientific research results are publicly accessible for free, including final scientific research reports, peer-reviewed scholarly publications, and the underlying scientific research data used to produce reports and publications, to the extent permitted by applicable law. We will require that final research publications are permitted to be available in an SSA-designated repository that we will select in 2024. Underlying scientific research data must be deposited in a repository and in a form that meets SSA's requirements. What types of digital repositories do researchers prefer for providing public access to research data? What should SSA consider as we develop requirements for which data repositories researchers may use?

3. Costs—For the expenses that researchers incur for providing public access, we may allow reasonable costs as part of a contract, grant, cooperative agreement, or other research award. What information is available to help us estimate the costs associated with providing public access to scientific research publications and data? How can we minimize those costs to maximize the funds available for research awards?

4. SSA Research Information and Training—Our public access plan provides information about our existing website where we describe our research programs. We will consider providing a new web page as a single point of access for information about our research programs, including how to find publicly accessible research publications and data. What information, guidance, or training about public access could we provide to help researchers and their institutions, beginning with applying for a research opportunity through the time of final publication?

5. Equitable Research—How can we ensure equity in research opportunities and access as we implement public access requirements, and what challenges might certain institutions face with public access, including costs and publishing opportunities?

The Commissioner of the Social Security Administration, Martin O'Malley, having reviewed and approved this document, is delegating the authority to electronically sign this document to Faye I. Lipsky, who is the primary Federal Register Liaison for SSA, for purposes of publication in the Federal Register.

Faye I. Lipsky,
Federal Register Liaison, Office of Legislation and Congressional Affairs, Social Security Administration.

[FR Doc. 2024-10279 Filed 5-10-24; 8:45 am]

BILLING CODE 4191-02-P